COMMITTEE FOR THE IMPLEMENTATION OF TEXTILE AGREEMENTS

Amendment of Export Visa Requirements for Certain Cotton, Wool, Man-Made Fiber, Silk Blend and Other Vegetable Fiber Textiles and Textile Products Produced or Manufactured in the People's Republic of China

July 2, 2001.

AGENCY: Committee for the Implementation of Textile Agreements (CITA).

ACTION: Issuing a directive to the Commissioner of Customs providing for the use of a new textile export license/commercial invoice printed on light blue paper.

EFFECTIVE DATE: January 1, 2002.

FOR FURTHER INFORMATION CONTACT: Roy Unger, International Trade Specialist, Office of Textiles and Apparel, U.S. Department of Commerce, (202) 482-4212.

SUPPLEMENTARY INFORMATION:

Authority: Section 204 of the Agricultural Act of 1956, as amended (7 U.S.C. 1854); Executive Order 11651 of March 3, 1972, as amended.

The Governments of the United States and the People's Republic of China have agreed to amend the existing export visa requirements to provide for the use of a new textile export license/commercial invoice, issued by the Government of the People's Republic of China, for shipments of goods produced or manufactured in China and exported from China on and after January 1, 2002. The new license/invoice shall be printed on light blue background paper. The light blue form replaces the light green background form currently in use. The visa stamp is not being changed.

Shipments of textile and apparel products which are produced or manufactured in China and exported from China during the period January 1, 2002 through January 31, 2002 may be accompanied by a visa printed on either the light green background paper or the light blue background paper as described above. Products exported on and after February 1, 2002 must be accompanied by an export visa issued by the Government of the People's Republic of China on the light blue license/invoice form.

See 62 FR 15465, published on April 1, 1997.

D. Michael Hutchinson
Acting Chairman, Committee for the Implementation of Textile Agreements.

Committee for the Implementation of Textile Agreements

July 2, 2001.

Commissioner of Customs,

Department of the Treasury, Washington, DC 20229.

Dear Commissioner: This directive amends, but does not cancel, the directive issued to you on March 27, 1997, by the Chairman, Committee for the Implementation of Textile Agreements. That directive establishes an export visa requirement for certain cotton, wool, man-made fiber, silk blend, and other vegetable fiber textiles and textile products, produced or manufactured in the People's Republic of China.

Effective on January 1, 2002, for products exported from China on or after January 1, 2002, you are directed to amend the March 27, 1997 directive to provide for the use of export licenses/commercial invoices issued by the Government of the People's Republic of China which are printed on light blue background paper. The light blue form will replace the light green background form currently being used.

To facilitate implementation of this amendment to the export licensing system, you are directed to permit entry of textile products, produced or manufactured in China and exported from China during the period January 1, 2002 through January 31, 2002, for which the Government of the People's Republic of China has issued an export license/commercial invoice printed on either the light green background paper or the light blue background paper as described above.

Products exported on and after February 1, 2002 must be accompanied by an export visa issued by the Government of the People's Republic of China on the light blue license/invoice form.

The requirements for ELVIS (Electronic Visa Information System) remain unchanged.

Shipments entered or withdrawn from warehouse according to this directive which are not accompanied by an appropriate export visa shall be denied entry and a new visa must be obtained.

The Committee for the Implementation of Textile Agreements has determined that this action falls within the foreign affairs exception to the rulemaking provisions of 5 U.S.C. 553(a)(1).

Sincerely,

D. Michael Hutchinson

Acting Chairman, Committee for the Implementation of Textile Agreements.

[FR Doc. 01-17055 Filed 7-6-01; 8:45 am]

BILLING CODE 3510-DR-S